DEPARTMENT OF THE INTERIOR

Bureau of Land Management

[LLWO250000.18XL1109AF.L12200000.PM0000; OMB Control Number 1004-0165]

Agency Information Collection Activities; Cave Management: Cave Nominations and Requests for Confidential Information

AGENCY: Bureau of Land Management, Interior.

ACTION: Notice of information collection; request for comment.

SUMMARY: In accordance with the Paperwork Reduction Act of 1995, we, the Bureau of Land Management (BLM), are proposing to renew an information collection with revisions.

DATES: Interested persons are invited to submit comments on or before March 19, 2018.

ADDRESSES: Send your comments on this information collection request (ICR) by mail to the U.S. Department of the Interior, Bureau of Land Management, 1849 C Street NW, Room 2134LM, Washington DC 20240, Attention: Jean Sonneman; by email to jesonnem@blm.gov. Please reference OMB Control Number 1004-0165 in the subject line of your comments.

FOR FURTHER INFORMATION CONTACT: To request additional information about this ICR, contact Dorothy Morgan by email at dmorgan@blm.gov, or by telephone at 202-689-5684.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Agencies within the Department of the Interior use the information in a cave nomination to determine if the nominated cave will be listed as significant in accordance with the Federal Cave Resources Protection Act (FCRPA), 16 U.S.C. 4301 through 4310 and the Department's regulations at 43 CFR 37.11(c). The information is thus necessary for full compliance with agencies' responsibilities to identify and protect significant caves and their resources.

Agencies within the Department of the Interior use the information in requests for confidential cave information to determine whether to grant access to confidential cave data. Agencies need this information in order to comply with their statutory responsibilities to communicate, cooperate, and exchange information, within the limits prescribed by the FCRPA.

Title of Collection: Cave Management: Cave Nominations and Requests for Confidential Information.

OMB Control Number: 1004-0165.

Form Numbers: None.

Type of Review: Extension of a currently approved collection.

Respondents/Affected Public: Cave nominations may be submitted pursuant to 16 U.S.C. 4303 and 43 CFR 37.11 by governmental agencies and the public, including those who utilize caves for scientific, education, and recreational purposes. Requests for confidential information may be submitted pursuant to 16 U.S.C. 4304 and 43 CFR 37.12 by Federal and state governmental agencies and their cooperators, bona fide educational and research institutions, and individuals or organizations assisting a land management agency with cave management activities.

Total Estimated Number of Annual Respondents: 16.

Total Estimated Number of Annual Responses: 16.

Estimated Completion Time per Response: Varies from 1 hour to 10 hours, depending on activity.

Total Estimated Number of Annual Burden Hours: 124.

Respondent's Obligation: Required to obtain or retain a benefit.

Frequency of Collection: On occasion.

Total Estimated Annual Nonhour Burden Cost: None.

An agency may not conduct or sponsor and a person is not required to respond to a collection of information unless it displays a currently valid OMB control number.

The estimated annual burdens are itemized in the following table:

Type of response | Number of responses | Hours per response | Total Hours (Column B × Column C)
A. | B. | C. | D.
Cave Nomination | 12 | 10 | 120
Request for Confidential Cave Information | 4 | 1 | 4
Totals | 16 |  | 124

The authority for this action is the Paperwork Reduction Act of 1995 (44 U.S.C. 3501 et seq).

Jean Sonneman,
Information Collection Clearance Officer, Bureau of Land Management.

[FR Doc. 2018-00607 Filed 1-12-18; 8:45 am]

BILLING CODE 4310-84-P